CORPORATION FOR NATIONAL AND COMMUNITY SERVICE

Notice of Availability of Funds To Strengthen Communities and Organizations in Using Service and Volunteers To Support Homeland Security

AGENCY: Corporation for National and Community Service.

ACTION: Notice of funding availability.

SUMMARY: The Corporation for National and Community Service (hereinafter the “Corporation”) announces the availability of fiscal year 2002 funds to eligible organizations for the purpose of strengthening community efforts in support of homeland security. The Corporation defines homeland security to include programs that support public safety, public health, and disaster preparedness and relief. Approximately $5 million is available for new grants under the AmeriCorps*State competitive and AmeriCorps*National programs, $5 million for new grants under Special Volunteer Programs, and $1.4 million to support Retired and Senior Volunteer Program (RSVP) volunteers.

Following the information that is common to all Corporation programs listed above, there is a specific section for each program funding opportunity.

DATES: Applications for all categories must arrive at the Corporation no later than 5:00 p.m., Eastern Daylight Time, on May 8, 2002. The Corporation will not accept applications that are submitted via facsimile. Due to delays in delivery of regular USPS mail to government offices, there is no guarantee that your application will arrive in time to be considered. We suggest that you use USPS priority mail or a commercial overnight delivery service.

We anticipate announcing selections under this notice no later than June 28, 2002.

ADDRESSES: Applications for AmeriCorps*State, AmeriCorps*National and Special Volunteer Programs must be submitted to the Corporation at the following address: Corporation for National and Community Service, Attn: Nancy Talbot, 1201 New York Avenue NW, Box H.S., Washington, DC 20525. Applications for Retired and Senior Volunteer Programs must be submitted to the same address, Attn: John Keller. This Notice is available in an alternative format for people with visual impairments.

FOR FURTHER INFORMATION CONTACT: For further information, contact one of the following: Nancy Talbot at 202-606-5000 x470 (ntalbot@cns.gov) for questions about Special Volunteer Programs; Peter Heinaru at 202-606-5000 x302 (pheinaru@cns.gov) for questions about AmeriCorps*State and National; and John Keller at 202-606-5000 x554 (jkeller@cns.gov) for questions about the Retired and Senior Volunteer Corps. The TDD number is 202-565-2799.

SUPPLEMENTARY INFORMATION:

Background

The Corporation is a Federal Government corporation that encourages Americans of all ages and backgrounds to engage in community-based service to meet the nation's educational, public safety, environmental and other human needs. In doing so, the Corporation fosters civic responsibility, strengthens the ties that bind us together as a people, and provides educational opportunity for those who make a substantial commitment to service. This year, the Corporation will help support more than 1.5 million Americans who perform substantial service in communities across the country.

On November 8, President Bush announced that the Corporation will support homeland security in the coming year in three major areas: public safety; public health; and disaster mitigation and preparedness. The President said:

“Many ask, ‘What can I do to help in our fight?’ The answer is simple. All of us can become a September the 11th volunteer by making a commitment to service in our own communities. So you can serve your country by tutoring or mentoring a child, comforting the afflicted, housing those in need of shelter and a home.

“You can participate in your neighborhood watch or Crimestoppers. You can become a volunteer in a hospital, emergency medical, fire or rescue unit. You can support our troops in the field and, just as importantly, support their families here at home by becoming active in the USO or groups in communities near our military installations.

“We also will encourage service to country by creating new opportunities within the AmeriCorps and Senior Corps programs for public safety and public health efforts.”

In the State of the Union address, the President announced the USA Freedom Corps that will build on the great American ethic of service. The USA Freedom Corps will promote a culture of responsibility, service, and citizenship. It will work with key service agencies in government and the nonprofit sector to provide incentives and new opportunities to serve at home and abroad. The USA Freedom Corps will draw on help from Americans of all ages and of every background. The Corporation for National and Community Service and its programs—National Senior Service Corps, AmeriCorps, and Learn and Serve America—are part of the efforts under the USA Freedom Corps.

The Corporation's support for homeland security includes:

Public Safety

Public safety is one of the four primary service activities for AmeriCorps, Senior Corps, and Learn and Serve America. Thousands of volunteers serve with and for police departments, fire departments, rescue teams, emergency response agencies, and land management agencies. They are not armed, nor can they make arrests, but they carry out vital tasks including organizing neighborhood watch groups, community policing, victim assistance, fingerprinting and other tasks that free officers and other professionals to do front line work. In its first five years, AmeriCorps has organized 46,000 safety patrols, and in one year alone senior volunteers carried out 131,000 patrols that freed up 540,000 hours of police time.

Public Health

Currently, AmeriCorps members, Learn and Serve America participants, and Senior Corps volunteers fulfill a variety of public health roles including assisting in immunizing children and adults, serving as case managers, distributing health information, and providing health screenings. Last year alone, AmeriCorps members distributed health information materials to 500,000 people and provided health screenings to 181,000 individuals, while Senior Corps volunteers assisted in immunizing 270,000 children and adults. Learn and Serve America students, faculty, and teachers developed education materials on a broad range of health topics, served in clinics, and provided needed medical care in underserved areas.

Disaster Preparedness and Relief

AmeriCorps members, including the National Civilian Community Corps, and Senior Corps volunteers have a long track record of working with Federal Emergency Management Agency and other relief agencies in helping communities to respond to disasters. Learn and Serve America participants respond to local disasters as well. National and community service participants help run emergency shelters, assist law enforcement, provide food and shelter, manage donations, assess and repair damage, and help families and communities rebuild. Since September 11, many have been actively engaged in relief efforts.

Purpose of Grants

The grants made under this announcement are to assist communities in getting involved in the war against terrorism on the home front.

In the area of public safety, the grants will help provide AmeriCorps members, senior volunteers, students, and other community members to support police departments, fire departments and other local agencies such as rescue units and parks and recreation departments. These participants will free up local personnel to meet their front-line responsibilities by performing administrative tasks and other supportive functions that can be performed by non-sworn officers.

In the area of public health, AmeriCorps members, senior volunteers, students, and others will support public health agencies in outreach and information dissemination and administrative support.

In the area of disaster relief and preparedness, AmeriCorps members, senior volunteers, students, and others will perform a wide variety of activities that support immediate and long-term recovery efforts, as well as preparedness and mitigation. These individuals will run emergency shelters, help law enforcement, provide food and shelter, manage donations, assess and repair damage, and help families and communities rebuild. Members and volunteers may also support disaster preparation and mitigation activities.

Types of Activities

In general, activities must fall within the categories of public safety, public health, or disaster response and preparedness. To be responsive to this Notice the activities must relate to homeland security and to the current challenges that communities face. A grant may support programs that:

• Organize communities to identify and respond to crime and disorder problems through existing community organizations, law enforcement, schools, institutions of higher education, and the business community. Such programs may conduct needs assessments and identify resources to support improvements, such as the creation of Neighborhood Watch programs.

• Mobilize volunteers to assist police departments, fire departments, and other agencies involved in public security.

• Provide support for professional or volunteer fire departments, including a range of administrative duties, fire prevention and outreach, public education, and emergency response.

• Organize, conduct, and support community-based immunization programs related to public health concerns.

• Expand health services and support available through local public health clinics.

• Address public health concerns, particularly bio-terrorism, that provide resources to the community through door-to-door contact, school-based meetings, community meetings, and other means.

• Develop materials, identify resources, and educate the public through a variety of means to build awareness of and readiness for both natural disasters and intentional criminal/terrorist attacks.

• Provide immediate support to relief agencies responding to a disaster. Services may include relief of rescue workers, search and rescue, first aid, coordination of emergency supplies, and establishment of communication links for relief workers.

• Support long-term recovery efforts associated with the impact of disasters.

• Support disaster preparedness or mitigation.

• Identify community assets to respond to disasters and identify improvements that are needed for effective response.

• Recruit community volunteers with specific expertise to support homeland security (e.g., retired individuals who worked during their career in the fields of public safety, public health, and emergency preparedness).

• Expand the capacity of nonprofit organizations and schools to support homeland security, such as the initiation of volunteer programs.

• Mobilize volunteers to support homeland security activities on a community-wide and/or statewide basis.

The above are examples only. Local communities will determine the best strategies for integrating service and volunteering into homeland security efforts. The Corporation expects all activities we support under this announcement to relate to or be part of the Citizen Corps that the Federal Emergency Management Agency is charged with bringing together in communities. If there is no Citizen Corps in an area where you propose program activities, the activities should be part of a community-wide or statewide strategy to strengthen homeland security.

We encourage programs to make use of volunteers from throughout the community, including students and senior volunteers, to design and implement programs. We expect that resources from a variety of sources will be employed and that multiple organizations will work together effectively. Because of statutory requirements, an entity seeking to sponsor more than one program (AmeriCorps, Special Volunteer Programs, RSVP) described in this Notice must submit separate applications, noting its proposed relationships between the programs.

The Corporation also encourages efforts that will have a lasting impact on strengthening homeland security in the communities being served. It may be advantageous, for example, to use a “train the trainers” model where a program trains teachers or first aid workers, who in turn use their new skills to educate children or community volunteers. Applicants should address in the application narrative plans for assuring the sustainability and long-lasting effects of activities supported with these grants.

For more information on the programs supported by the Corporation, see our Web site at www.nationalservice.org.

Eligible Applicants and Submissions

Eligible applicants are described below under each program category, Category A. AmeriCorps* State and AmeriCorps National programs, Category B. Special Volunteer Programs and Category C. Retired and Senior Volunteer Program. A single organization may submit the same application only once, and should specify the category for which it is applying. A single organization may submit different applications that propose entirely different activities to more than one category. Within a category, an organization may submit only one application. If an organization seeks to sponsor programs in more than one category, it should note the proposed relationship between the programs in each application.

Applicants that have never received funding from the Corporation are eligible and encouraged to apply for funding under this Notice. Applicants currently operating or applying for Corporation funding may apply for funding under this Notice. In doing so, the applicant must differentiate between the proposed objectives and activities and those of its currently-funded national service program or pending application.

Selection Criteria

In awarding these grants, the Corporation will consider: program design (60%); organizational capacity (25%); and budget/cost effectiveness (15%). The details of the selection criteria are contained in each application package. The Corporation anticipates that the final awardees in the aggregate will represent a mix of homeland security activities in the areas of public safety, public health, and disaster preparedness and relief. In evaluating proposals, the Corporation will use its discretion to achieve such a mix. The Corporation will make all final decisions concerning awards and may require revisions to the grant proposal in order to achieve the objectives under this Notice.

Program Period of Performance

The Corporation will make awards covering a period not to exceed three years. Applications must include a proposed budget and proposed activities for the entire award period. If the Corporation approves an application and enters into a multi-year award agreement, the Corporation will initially provide funding based only on the first year's budget. The Corporation has no obligation to provide additional funding. Additional funding is contingent upon satisfactory performance, the availability of funds, and other criteria established in the award agreement.

Notice of Intent To Apply

In order to gauge the number of applications we are likely to receive, we request that applicants send an email by April 1, 2002, to the individual named below in each specific category (AmeriCorps, Special Volunteer Programs and RSVP). The email notice of intent should state that you plan to submit an application for the homeland security competition by the applicable deadline. Although submission of the notice of intent to apply is not mandatory, we encourage you to submit one to help the Corporation to plan more efficiently for our review.

The notice should include the name of your organization, address, contact person, phone number. State commissions should email a letter of intent that includes an estimate of the number of subgrantee programs they plan to submit to the Corporation.

Additional Information Concerning the Specific Funding Available

Category A: AmeriCorps*State and AmeriCorps*National

Number and Amount of Awards

The Corporation will make available approximately $5 million under this announcement for AmeriCorps*State and National programs. We anticipate funding approximately 10 to 15 grant awards ranging from $200,000 to $750,000. The Corporation will consider requests to use a portion of the $5 million in new funds earmarked for AmeriCorps*State competitive and National to expand existing programs.

Eligible Applicants

For AmeriCorps*State competitive funds, generally any eligible entity, including Indian tribes and faith-based organizations, proposing to operate a program within a single state may apply for these funds. These organizations should apply to the relevant state commission for funds. Because North Dakota, South Dakota, and U.S. territories other than American Samoa do not have state commissions, entities proposing to operate a program within these states or territories are not eligible for AmeriCorps*State competitive funds.

For AmeriCorps*National funds, nonprofit organizations, including faith-based organizations, that will operate a program in two or more states are eligible to seek funding under this category directly from the Corporation. Eligible applicants also include partnerships or consortia formed across two or more states that consist of institutions of higher education, Indian tribes, or other nonprofits, including labor and religious organizations.

An organization described in Section 501(c)(4) of the Internal Revenue Code, 26 U.S.C. 501(c)(4), that engages in lobbying activities is not eligible to apply, serve as a host site for members, or act in any type of supervisory role in the program.

Allowable Costs

Applicants for AmeriCorps funds generally are required to meet previously published (application guidelines and instructions) limitations on per-member costs to be paid by the Corporation. However, we will consider granting a waiver if the applicant demonstrates a strong need in its program design for flexibility.

Additional Requirements Under This Announcement

Applicants must propose activities for AmeriCorps members to support homeland security. Proposals that do not address homeland security through service and volunteering will be judged nonresponsive. Applicants should consider relating program activities to a Citizen Corps planning team or initiative. In the event that a Citizen Corps has not been identified or is not underway, then applicants must demonstrate that they are part of a community-wide or statewide effort to support homeland security. One way that eligible organizations can demonstrate that they are part of a coordinated strategy is to apply in consortia with one organization serving as the legal applicant or to have a statewide or local entity coordinating homeland security (e.g., mayor's office) be the grant applicant.

Volunteer mobilization is a requirement under this Notice. Applicants must include a plan for mobilizing non-paid volunteers, e.g., seniors, students, or members of the community of all ages and backgrounds, in the design of their program. Applicants that do not mobilize volunteers as part of their program activities will not be considered for funding.

Application Instructions

All eligible applicants must meet all of the applicable requirements contained in this Notice. Eligible applicants under AmeriCorps*State competitive funds, other than state commissions themselves, should contact the state commission for application guidelines and instructions and specific deadline information. A complete listing of state commissions, as well as contact information, is available on the Corporation's website, www.americorps.org.

Eligible applicants under AmeriCorps*National can obtain a copy of the application guidelines and instructions from the Corporation website.

For a printed copy of any of these materials, please contact Shelly Ryan at 202-606-5000, x549 (sryan@cns.gov).

Applicants are urged to pay close attention to these application materials. They contain a wide variety of relevant requirements, including matching funds, AmeriCorps member benefits, the activities in which AmeriCorps members may engage, and the requirements for organizations proposing to operate a program.

Please email your intent to apply by April 1, 2002, to Shelly Ryan at sryan@cns.gov.

Application Dates

Applications must arrive at the Corporation no later than 5 p.m., Eastern Daylight Time, on May 8, 2002. The Corporation will not accept applications that are submitted via facsimile. Due to delays in delivery of regular USPS mail to government offices, there is no guarantee that your application will arrive in time to be considered. We suggest that you use USPS priority mail or a commercial overnight delivery service.

We anticipate announcing AmeriCorps*National selections under this Notice no later than June 28, 2002.

Application Address

Proposals must be submitted to the Corporation at the following address: Corporation for National and Community Service, Attn: Nancy Talbot, 1201 New York Avenue NW., Box H.S., Washington, DC 20525.

For Further Information Contact

For further information, contact Peter Heinaru at 202-606-5000 x302 (pheinaru@cns.gov). The TDD number is 202-565-2799. This Notice is available in an alternative format for people with visual impairments.

Legal Authority

AmeriCorps*State competitive and AmeriCorps*National programs are authorized by the National Community Service Act of 1990, as amended, 42 U.S.C. 12571-12595.

Category B. Special Volunteer Programs

Number and Amount of Awards

The Corporation will make available approximately $5 million under this announcement for grants to support Special Volunteer programs. We anticipate funding approximately 25 grant awards ranging from $100,000 to $500,000. Grantees may make subgrants to local groups.

Eligible Applicants

Eligible applicants include: state commissions on national and community service; nonprofit organizations operating in more than one state; consortia of local nonprofit organizations, including faith-based organizations; and public entities at the state and local level.

An organization described in Section 501(c)(4) of the Internal Revenue Code, 26 U.S.C. 501(c)(4), that engages in lobbying activities is not eligible to apply, serve as a host site for volunteers, or act in any type of supervisory role in the program.

Purpose of Special Volunteer Programs

The statutory purpose of Special Volunteer Programs is to strengthen and supplement efforts to meet a broad range of needs, including those in low-income communities, by encouraging “persons from all walks of life and from all age groups to perform meaningful and constructive service.” Programs funded under this category must propose activities to support homeland security. Such activities may include:

• Mobilization of community volunteers to support public safety.

• Volunteers providing support for emergency response teams.

• Mobilization of the faith-based community to support public safety and public health agencies.

• Capacity building grants to enable public agencies to make maximum use of volunteer mobilization.

• Service-learning programs that work with seniors to address homeland security issues.

• Dissemination of information to senior centers and schools, as well as training for teachers and youth workers concerning homeland security.

The above are examples. Any questions concerning whether a proposed activity is eligible under this category should be directed to Nancy Talbot at 202-606-5000 ext.470, (ntalbot@cns.gov).

While programs in this category may include volunteers of all ages, they should primarily involve seniors in service. Service options for this program may include volunteer service that is part-time, full-time, short-term or episodic service. The applicant determines the options that will make the program successful.

Allowable Costs

The grant may support reasonable and necessary costs typically associated with a program of this type. Grant funds are for management and administrative support for volunteer activities related to homeland security, with particular emphasis on involving seniors in service. In general, funds are not available for stipends under this category. If modest stipends are to be paid to leaders or others serving on a full-or substantial part-time basis, the applicant should specify the amounts. Such amounts should be very limited and are justifiable only when necessary to encourage service on a sustained basis (e.g., minimum of 15-20 hours per week for a year).

Although there is no minimum matching requirement for grants under this category, grantees are required to provide a non-federal contribution (cash or in-kind) and must identify the sources(s) and amount(s) of the contribution.

Additional Requirements Under This Announcement

There are no restrictions for participation concerning age or income. The Corporation anticipates that the majority of individuals involved will be seniors. Veterans are encouraged to participate. The applicant must demonstrate the involvement of seniors in the program and will be asked, if a grant is awarded, to document the participation of those 55 years of age and older. The program design should be replicable.

Applicants should consider relating program activities to a Citizen Corps planning team or initiative. In the event that a Citizen Corps has not been identified or is not underway, then applicants must demonstrate that they are part of a community-wide or statewide effort to support public health, public safety or emergency preparedness. One way that eligible organizations can demonstrate that they are part of a coordinated strategy is to apply in consortia with one organization serving as the legal applicant or to have a statewide or local entity coordinating homeland security (e.g., mayor's office) be the grant applicant. In addition, applicants must propose activities to support homeland security.

Proposals that do not address homeland security through service and volunteering will be judged nonresponsive.

Applicants currently operating or applying for Corporation funding may apply for funding under this Notice. In doing so, the applicant must differentiate between the proposed objectives and activities and those of its currently funded national service program or pending application.

Application Instructions

All eligible applicants must submit an application that meets all of the requirements contained in this Notice. Eligible applicants under Special Volunteer Programs can obtain a copy of the application from Nancy Talbot at 202-606-5000, ext. 470 (ntalbot@cns.gov). Applicants are urged to pay close attention to these application materials.

Please email your intent to apply by April 1, 2002, to Shelly Ryan at sryan@cns.gov.

Application Dates

Applications must arrive at the Corporation no later than 5 p.m., Eastern Daylight Time, on May 8, 2002. The Corporation will not accept applications that are submitted via facsimile. Due to delays in delivery of regular USPS mail to government offices, there is no guarantee that your application will arrive in time to be considered. We suggest that you use USPS priority mail or a commercial overnight delivery service.

We anticipate announcing Special Volunteer Program selections under this Notice no later than June 28, 2002.

Application Address

Proposals must be submitted to the Corporation at the following address: Corporation for National and Community Service, Attn: Nancy Talbot, 1201 New York Avenue NW., Box H.S., Washington, DC 20525.

For Further Information Contact

For further information, contact Nancy Talbot at 202-606-5000 x470, (ntalbot@cns.gov). The TDD number is 202-565-2799. This Notice is available in an alternative format for people with visual impairments.

Legal Authority

The demonstration authority for Special Volunteer Programs, 42 U.S.C. 4991-4993, authorizes the Corporation to make grants to pay for the federal share of support to service programs that strengthen and supplement efforts to meet a broad range of needs.

Category C: New Grants Under the Retired and Senior Volunteer Program (RSVP)

Number and Amount of Awards

The Corporation will make available approximately $1,400,000 under this announcement to support up to 2,800 Retired and Senior Volunteer Program (RSVP) volunteers serving in roles that strengthen homeland security. We anticipate funding approximately 14 new federally-funded RSVP grant projects in geographic areas currently unserved by RSVP. The average amount of the awards will be approximately $100,000.

Eligible Applicants

Public agencies (including state and local agencies and other units of government), non-profit organizations, including faith-based organizations, institutions of higher education and Indian Tribes are eligible to apply. Sponsors of RSVP projects that receive no funds from the Corporation, other than funding for Programs of National Significance (PNS), are eligible to apply. Current sponsors of RSVP Projects funded by the Corporation are not eligible to apply under this Notice.

An organization described in Section 501(c)(4) of the Internal Revenue Code, 26 U.S.C. 501(c)(4), that engages in lobbying activities is not eligible to apply, serve as a host site for volunteers, or act in any type of supervisory role in the program.

Purpose of RSVP

Under RSVP the Corporation provides grants to eligible organizations for the dual purpose of engaging persons 55 and older in volunteer service to meet critical community needs and to provide a high quality experience that will enrich the lives of volunteers. RSVP matches volunteers' skills, life experiences, and interests with priority needs across the nation.

In 2000, RSVP included 766 local projects with over 470,000 RSVP volunteers contributing over 78 million hours of service to their communities through a network of 67,500 local non-profit and community-based organizations. RSVP serves in more than 1,400 counties nationally. Last year alone, RSVP volunteers carried out 131,000 patrols that freed up 540,000 hours of police time, assisted in immunizing 270,000 children and adults, and since September 11, many have been actively engaged in relief efforts and strengthening disaster response capacity in their communities.

Allowable Costs

The grant may support reasonable and necessary costs typically associated with a program of this type. Such costs are delineated in the RSVP application guidelines and instructions.

Additional Requirements Under This Announcement

Applicants should consider relating program activities to a Citizen Corps planning team or initiative. In the event that a Citizen Corps has not been identified or is not underway, then applicants must demonstrate that they are part of a community-wide or statewide effort to support public health, public safety or emergency preparedness. Applicants that are not part of such an effort will not be considered for funding. In addition, applicants must propose activities to support homeland security. Proposals that do not address homeland security through service and volunteering will be judged nonresponsive.

There are no restrictions concerning the geographic location of an applicant. However, projects proposed under this Notice must be in geographic areas currently unserved by RSVP. An organization currently receiving funds under the Retired and Senior Volunteer Program may apply for similar program activities through “programs of national significance.”

Application Instructions

All eligible applicants must submit an application that meets all of the criteria and requirements contained in this Notice. Application guidelines and instructions can be downloaded from the Corporation's Web site, www.nationalservice.org; or obtained by contacting the appropriate Corporation State Office. Information on how to contact state offices is located on our website: click on “Contact Us” at the bottom of the page.

Applicants are urged to pay close attention to these application materials. They contain a wide variety of relevant requirements, including non-federal contributions, the amounts of stipends volunteers may receive, and the requirements for organizations proposing to operate a program.

Please email your intent to apply by April 1, 2002, to John Keller at jkeller@cns.gov.

Application Dates

Applications must arrive at the Corporation for National and Community Service by 5:00 p.m. (Eastern Daylight Time), May 8, 2002. The Corporation will not accept applications that are submitted via facsimile. Due to delays in delivery of regular USPS mail to government offices, there is no guarantee that your application will arrive in time to be considered. We suggest that you use USPS priority mail or a commercial overnight delivery service.

We anticipate announcing RSVP selections under this Notice no later than June 28, 2002.

Application Address

Proposals must be submitted to the Corporation at the following address: Corporation for National and Community Service, Attn: John Keller, 1201 New York Avenue NW., Box H.S., Washington, DC 20525.

For Further Information Contact

For further information, contact John Keller at 202-606-5000 ext. 554, (jkeller@cns.gov). The TDD number is 202-565-2799. This Notice is available in an alternative format for people with visual impairments.

Legal Authority

RSVP programs are authorized by the Domestic Volunteer Service Act, 42 U.S.C. 5001.

Dated: March 4, 2002.
Gary Kowalczyk,
Coordinator, National Service Programs.

[FR Doc. 02-5520 Filed 3-7-02; 8:45 am]

BILLING CODE 6050-$$-P